DEPARTMENT OF COMMERCE

National Oceanic and Atmospheric Administration

RIN: 0648-XH81

Pacific Fishery Management Council; Public Meetings

AGENCY: National Marine Fisheries Service (NMFS), National Oceanic and Atmospheric Administration (NOAA), Commerce.

ACTION: Notice of public meetings.

SUMMARY: The Pacific Fishery Management Council's (Council) Economic and Groundfish Subcommittees (Subcommittees) of the Scientific and Statistical Committee will hold a joint working meeting, which is open to the public.

DATES: The Subcommittees will meet Wednesday, May 28, 2008, from 8 a.m. until business for the day is completed, and reconvene on Thursday, May 29 at 8 a.m. and adjourn that day upon completion of business.

ADDRESSES: The Subcommittees' meeting will be held at the Embassy Suites Portland Airport, Cedar I and II Room, 7900 NE 82nd Avenue, Portland, OR 97220; telephone: (503) 460-3000.

Council address: Pacific Fishery Management Council, 7700 NE Ambassador Place, Suite 101, Portland, OR 97220-1384.

FOR FURTHER INFORMATION CONTACT: Mr. Jim Seger, Staff Officer; telephone: (503) 820-2280.

SUPPLEMENTARY INFORMATION: The purpose of the Subcommittees' meeting is to review the analysis developed in support of Council consideration of a preliminary preferred trawl rationalization alternative.

Although non-emergency issues not contained in the meeting agenda may come before the Subcommittees for discussion, those issues may not be the subject of action during this meeting. The Subcommittees' action will be restricted to those issues specifically listed in this notice and any issues arising after publication of this notice that require emergency action under Section 305(c) of the Magnuson-Stevens Fishery Conservation and Management Act, provided the public has been notified of the Subcommittee's intent to take final action to address the emergency.

Special Accommodations

These meetings are physically accessible to people with disabilities. Requests for sign language interpretation or other auxiliary aids should be directed to Ms. Carolyn Porter at (503) 820-2280 at least 5 days prior to the meeting date.

Dated: May 6, 2008.
Tracey L. Thompson,
Acting Director, Office of Sustainable Fisheries, National Marine Fisheries Service.

[FR Doc. E8-10387 Filed 5-9-08; 8:45 am]

BILLING CODE 3510-22-S